DEPARTMENT OF HEALTH AND HUMAN SERVICES

[Document Identifier: OS-0990-New; 60-day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: National Survey on Health Information Exchange in Clinical Laboratories OMB No. 0090-NEW—Office of the National Coordinator for Health Information Technology.

Abstract: Currently, the Office of the National Coordinator for Health Information Technology (ONC) is soliciting comments on a new information collection activity that will collect key data from a relatively small sample of clinical laboratories nationwide for the Evaluation of the State Health Information Exchange Cooperative Agreement Program. A key goal of the State Health Information Exchange Cooperative Agreement Program is to promote the electronic exchange of structured test results from clinical laboratories to healthcare providers. To assess progress over time at both the national and state level, information is needed regarding the baseline capacity for clinical laboratory information exchange.

The National Survey on Health Information Exchange in Clinical Laboratories will assess and evaluate the electronic transfer of health information from clinical laboratories to ordering physicians. It will focus on two key measures: (1) Percentage of laboratory facilities that are able to send structured lab results electronically to ordering physicians and (2) Percentage of lab results that are currently begin sent electronically in coded format to ordering physicians.

The anticipated bi-annual data collection effort will be conducted in two waves—Wave I in November of 2012 will establish the baseline and Wave II in 2014 will measure progress. Information will be collected using a mail-out/mail-back hard copy questionnaire with telephone non-response follow up. There will be two similar versions of the questionnaire—one for hospital-based labs and one for independent labs. For hospitals, the burden hours are based on an estimated length of approximately 20 minutes per completed survey. ONC will use these survey findings to develop a comprehensive understanding of the baseline level of laboratory information exchange in order to inform program activities to promote laboratory information exchange and provide more targeted assistance to states and territories in developing their laboratory information exchange strategies.

Estimated Annualized Burden Table
Forms | Type of respondent | Number of respondents | Number of responses per respondent | Average burden (in hours) per response | Total burden hours
Hospital-Based Laboratory Survey on Health Information Exchange | Hospital-Based Laboratories | 2,882 | 1 | 20/60 | 961
Independent Laboratory Survey on Health Information Exchange | Independent Laboratories | 2,081 | 1 | 17.57/60 | 609
Total |  | 4,963 | 1 | 18.98/60 | 1,570

Keith A. Tucker,
Office of the Secretary, Paperwork Reduction Act Clearance Officer.

[FR Doc. 2012-15032 Filed 6-19-12; 8:45 am]

BILLING CODE 4150-36-P